DEPARTMENT OF TRANSPORTATION

Federal Aviation Administration

[Docket No: FAA-2011-0786]

Deadline for Notification of Intent To Use the Airport Improvement Program's (AIP) Primary, Cargo, and Nonprimary Entitlement Funds Available for Fiscal Year (FY) 2018

AGENCY: Federal Aviation Administration (FAA), Department of Transportation.

ACTION: Notice.

SUMMARY: The FAA announces May 15, 2018, as the deadline for each airport sponsor to notify the FAA whether or not it will use its FY 2018 entitlement funds (also referred to as apportioned funds) available under 49 U.S.C. 47114 to support AIP-eligible projects that the airport sponsor previously identified through the Airports Capital Improvement Plan process during the preceding year.

FOR FURTHER INFORMATION CONTACT: Elliott Black, Director, Office of Airport Planning and Programming, APP-1, at (202) 267-8775.

SUPPLEMENTARY INFORMATION: Title 49 U.S.C. 47105(f) provides that the sponsor of each airport to which entitlement funds are apportioned shall notify the Secretary by such time and in a form as prescribed by the Secretary of the airport sponsor's intent to apply for its available entitlement funds. Therefore, the FAA is hereby notifying airport sponsors of the steps required to ensure that the FAA has sufficient time to carry-over and convert remaining entitlement funds. This notice applies only to those airports that have had entitlement funds apportioned to them, except those nonprimary airports located in designated block grant states. Airport sponsors intending to apply for any of their available entitlement funds, including those unused from prior years, shall make their intent known by 12 p.m. prevailing local time on Tuesday, May 15, 2018. This notice must address all entitlement funds available for FY 2018, including those entitlement funds not obligated from prior years. These notifications are critical to ensure efficient planning and administration of the AIP. The final grant application deadline is Tuesday, July 10, 2018. All notifications and grant applications must be provided to the designated FAA Airports District Office (or regional office in regions without Airports District Offices).

The airport sponsor's notification must address all entitlement funds available for FY 2018, as well as any entitlement funds not obligated from prior years. After Tuesday, July 10, 2018, the FAA will carry over any currently available entitlement funds for which the airport sponsor has not notified the FAA of its intention to use and these funds will not be available again until at least the beginning of FY 2019. This notification requirement does not apply to nonprimary airports covered by the State Block Grant Program.

Historically this deadline has been May 1 of each year. Due to the timing of the FY 2018 appropriation and extension of authorizing legislation, the FAA is extending the normal deadline. However, the FAA encourages airport sponsors to communicate with the FAA as soon as possible. Regional offices may establish earlier deadlines due to constraints on construction seasons.

Absent notification of the intent to use entitlement funds or submission of a grant application by the relevant deadlines noted above, the FAA will proceed after Tuesday, July 10, 2018, to carry over the remainder of available entitlement funds. These funds will not be available again until at least the beginning of FY 2019. This notice is promulgated to expedite and facilitate the grant-making process.

Issued in Washington, DC, on April 6, 2018.
Elliott Black,
Director, Office of Airport Planning and Programming.

[FR Doc. 2018-07658 Filed 4-17-18; 8:45 am]

BILLING CODE 4910-13-P